DEPARTMENT OF JUSTICE

Drug Enforcement Administration

Agency Information Collection Activities: Proposed Collection; Comments Requested

ACTION: 60-Day Notice of Information Collection Under Review: Extension of A Currently Approved Collection, U.S. Official Order Forms for Schedules I and II Controlled Substances (Accountable Forms), Order Form Requisition.

The Department of Justice (DOJ), Drug Enforcement Administration (DEA) has submitted the following information collection request to the Office of Management and Budget (OMB) for review and approval in accordance with the Paperwork Reduction Act of 1995. The proposed information collection is published to obtain comments from the public and affected agencies. Comments are encourage and will be accepted until June 6, 2003. This process is conducted in accordance with 5 CFR 1320.10.

If you have comments, especially on the estimated public burden or associated response time, suggestions, or need a copy of the proposed information collection instrument with instructions or additional information, please contact Patricia M. Good, Chief, Liaison and Policy Section, Office of Diversion Control, Drug Enforcement Administration, Washington, DC 20537, (202) 307-7297.

Written comments and suggestions from the public and affected agencies concerning the proposed collection of information are encouraged. Your comments should address one or more of the following four points:

1. Evaluate whether the proposed collection of information is necessary for the proper performance of the functions of the agency, including whether the information will have practical utility;

2. Evaluate the accuracy of the agencies estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: U.S. Official Order Forms for Schedules I and II Controlled Substances (Accountable Forms), Requisition for Order Form.

(3) Agency form number, if any, and the applicable component of the Department of Justice sponsoring the collection: Form Number: DEA-222 and DEA-222a. Office of Diversion Control, Drug Enforcement Administration, U.S. Department of Justice.

(4) Affected public who will asked or required to respond, as well as a brief abstract: Primary; Business or other for-profit. Other: Federal government, State, Local and Tribal Governments, Nonprofit Entities. Abstract: DEA-222 is used to transfer or purchase Schedule I and II controlled substances and data is needed to provide an audit of transfer and purchase. DEA-222a Requisition Form is used to obtain the DEA-222 Order Form. Respondents are DEA registrants eligible to handle these controlled substances.

(5) An estimate of the total number of respondents are the amount of time estimated for an average respondent to respond: It is estimated that there are a total of 100,870 respondents to this information collection. It is estimated to take 0.05 hours for a purchaser to requisition DEA Forms 222, using DEA Form 222a. It is estimated to take purchasers 0.333 hours to complete, annotate and file each order. It is estimated to take suppliers 0.333 hours to enter data regarding each order into a computer system, annotate the order and file it. It is estimated to take suppliers 9 hours a month to log and track DEA Forms 222 and prepare the monthly mailing of required information to DEA. It is estimated to take 0.25 hours to sign and execute each power of attorney letter. The annual average time spent to dependent on the number of orders completed and filled.

(6) An estimated of the total public burden (in hours) associated with the collection: The average annual public burden is 3.9 million hours, assuming a 6 percent annual growth rate in the number of orders.

If additional information is required contact: Robert B. Briggs, Department Clearance Officer, Information Management and Security Staff, Justice Management Division, United States Department of Justice, Patrick Henry Building, Suite 1600, 601 D Street NW., Washington, DC.

Dated: April 2, 2003.
Robert B. Briggs,
Department Clearance Officer, United States Department of Justice.

[FR Doc. 03-8386 Filed 4-4-03; 8:45 am]

BILLING CODE 4410-09-M